Executive Order 14245 of March 24, 2025

Imposing Tariffs on Countries Importing Venezuelan Oil

By the authority vested in me as President by the Constitution and the laws of the United States of America, including the International Emergency Economic Powers Act (50 U.S.C. 1701 et seq.) (IEEPA), the National Emergencies Act (50 U.S.C. 1601 et seq.), and section 301 of title 3, United States Code, and in view of the national emergency declared with respect to Venezuela in Executive Order 13692 of March 8, 2015 (Blocking Property and Suspending Entry of Certain Persons Contributing to the Situation in Venezuela), as continued most recently in the notice of February 27, 2025 (Continuation of the National Emergency with Respect to Venezuela), I, DONALD J. TRUMP, President of the United States of America, find that the actions and policies of the regime of Nicolás Maduro in Venezuela continue to pose an unusual and extraordinary threat to the national security and foreign policy of the United States. The activities of the Tren de Aragua gang, a transnational criminal organization originating in Venezuela and designated as a Foreign Terrorist Organization and a Specially Designated Global Terrorist organization, have intensified this threat, as highlighted in Proclamation 10903 of March 14, 2025 (Invocation of the Alien Enemies Act Regarding the Invasion of the United States by Tren De Aragua). Furthermore, Venezuela's ongoing destabilizing actions, including its support for illicit activities, necessitate further economic measures to protect United States interests.

In light of these circumstances, and to address the continued national emergency with respect to Venezuela that forms the basis for Executive Order 13692 and subsequent orders, I hereby order:

Section 1. Findings. (a) The Tren de Aragua gang, a transnational criminal organization with origins in Venezuela, has been designated as a Foreign Terrorist Organization by the United States due to its extensive involvement in terrorist activities such as kidnapping and violent attacks, including the assassination of a Venezuelan opposition figure, that destabilize communities across the Western Hemisphere. The prior administration's open-borders policies facilitated the infiltration of the United States by members of Tren de Aragua, allowing these dangerous criminals to establish a foothold within United States cities and prey upon American citizens. The Maduro regime aided and facilitated the influx of Tren de Aragua members into the United States during the prior administration by failing to control its borders, permitting the gang's operations to flourish within Venezuela, and refusing to take action against its members, thereby exacerbating the illegal immigration crisis.

(b) Existing sanctions on Venezuela, including those imposed in Executive Order 13692, Executive Order 13808 of August 24, 2017 (Imposing Additional Sanctions with Respect to the Situation in Venezuela), Executive Order 13850 of November 1, 2018 (Blocking Property of Additional Persons Contributing to the Situation in Venezuela), and Executive Order 13884 of August 5, 2019 (Blocking Property of the Government of Venezuela), remain in effect. The actions and policies of the Maduro regime that were the basis for those orders continue to pose an unusual and extraordinary threat to the national security and foreign policy of the United States. These actions include:

(i) The systematic undermining of democratic institutions through the suppression of free and fair elections and the illegitimate consolidation of power by the regime of Nicolás Maduro;

(ii) Endemic economic mismanagement and public corruption at the expense of the Venezuelan people and their prosperity;

(iii) The regime's responsibility for the deepening humanitarian and public health crisis in Venezuela; and

(iv) The destabilization of the Western Hemisphere through the forced migration of millions of Venezuelans, imposing significant burdens on neighboring countries.

Sec. 2. Imposition of Tariffs. (a) On or after April 2, 2025, a tariff of 25 percent may be imposed on all goods imported into the United States from any country that imports Venezuelan oil, whether directly from Venezuela or indirectly through third parties. Duties imposed by this order will be supplemental to duties on imports already imposed pursuant to IEEPA, section 232 of the Trade Expansion of 1962, section 301 of the Trade Act of 1974, or any other authority.

(b) The Secretary of State, in consultation with the Secretary of the Treasury, the Secretary of Commerce, the Secretary of Homeland Security, and the United States Trade Representative, is hereby authorized to determine in his discretion whether the tariff of 25 percent will be imposed on goods from any country that imports Venezuelan oil, directly or indirectly, on or after April 2, 2025.

(c) Once imposed on a country at the Secretary of State's discretion, the tariff of 25 percent shall expire 1 year after the last date on which the country imported Venezuelan oil, or at an earlier date if the Secretary of Commerce, in consultation with the Secretary of State, the Secretary of the Treasury, the Secretary of Homeland Security, and the United States Trade Representative, so determines at his discretion.

Sec. 3. Administration and Enforcement. (a) The Secretary of State, in coordination with the Secretary of the Treasury, the Secretary of Commerce, the Secretary of Homeland Security, and the United States Trade Representative, is hereby authorized to impose the tariffs established by this order.

(b) The Secretary of Commerce, in coordination with the Secretary of State and the Attorney General, is hereby authorized to:

(i) Determine whether a country has imported Venezuelan oil, directly or indirectly;

(ii) Issue regulations, guidance, and determinations as necessary to implement this order;

(iii) Coordinate with the heads of other executive departments and agencies to ensure compliance; and

(iv) Take any additional actions consistent with applicable law to carry out the purposes of this order.

(c) Any prior Presidential Proclamation, Executive Order, or other Presidential directive or guidance that is inconsistent with the direction in this order is hereby terminated, suspended, or modified to the extent necessary to give full effect to this order.

(d) Any other Presidential Proclamation, Executive Order, or other Presidential directive or guidance that applies to Venezuela or a country subject to a tariff under section 2 of this order remains in full effect, except to the extent specified in subsection (c) of this section.

(e) If the Secretary of State, at his discretion, decides to impose a tariff under section 2 of this order on China, that tariff shall also apply to both the Hong Kong Special Administrative Region and the Macau Special Administrative Region, as a measure to reduce the risk of transshipment and evasion.

Sec. 4. Reporting and Review. The Secretary of State and the Secretary of Commerce shall submit periodic reports to the President, within 180 days of the date of this order and no less than every 180 days thereafter, assessing the effectiveness of the tariffs described in this order and the ongoing conduct of the Maduro regime.

Sec. 5. Definitions. For the purposes of this order:

(a) The term “Venezuelan oil” means crude oil or petroleum products extracted, refined, or exported from Venezuela, regardless of the nationality of the entity involved in the production or sale of such crude oil or petroleum products.

(b) The term “indirectly” includes purchases of Venezuelan oil through intermediaries or third countries where the origin of the oil can reasonably be traced to Venezuela, as determined by the Secretary of Commerce.

Sec. 6. Effective Date. This order is effective at 12:01 a.m. eastern daylight time on April 2, 2025.

Sec. 7. General Provisions. (a) Nothing in this order shall be construed to impair or otherwise affect:

(i) The authority granted by law to an executive department or agency, or the head thereof; or

(ii) The functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

March 24, 2025.

[FR Doc. 2025-05440

Filed 3-26-25; 8:45 am]

Billing code 3395-F4-P